ENVIRONMENTAL PROTECTION AGENCY

[ER-FRL-6614-6]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 260-5076. An explanation of the ratings assigned to draft environmental impact statements (EISs) was published in FR dated April 14, 2000 (65 FR 20157).

Draft EISs

ERP No. D-COE-D36118-DE Rating LO, Fenwick Island Feasibility Study, Storm Damage Reduction, Delaware Coast from Cape Henlopen to Fenwick Island, Protective Berm and Dune Construction, Community of Fenwick Island, Sussex County, DE.

Summary: EPA did not have any objections regarding this proposed project.

ERP No. DS-AFS-L60104-WA Rating EC2, Huckleberry Land Exchange Consolidate Ownership and Enhance Future Conservation and Management, Updated Information, Proposal to Exchange Land and Mineral Estates, Federal Land and Non Federal Land, Mt. Baker—Snoqualmie National Forest, Skagit Snohomish, King, Pierce, Kittitas, and Lewis Counties, WA.

Summary: EPA expressed environmental concerns about the condition of Weyerhaeuser's commercial timberland parcels, especially high road density, composition and structure which are being reviewed for inclusion in the Mt. Baker—Snoqualmie National Forest. EPA also raised concerns that the current resource allocations are not adequate to restore water quality, aquatic habitat, habitat connectivity, and critical endangered species habitat as proposed in the DEIS.

ERP No. DS-BLM-K39058-CA Rating EC2, Cadiz Groundwater Storage and Dry-Year Supply Program, Amendment of the California Desert Conservation Area Plan, Additional Information, Groundwater Monitoring and Management Program, Issuance of Right-of-Way Grants and Permits, San Bernardino County, CA.

Summary: EPA expressed concerns based on potential impacts to groundwater quality and quantity and uncertainties in the proposed Groundwater Monitoring and Management Plan. EPA recommended that the FEIS provide additional information regarding groundwater monitoring and impacts, as well as crucial information on the Management Plan, including protocols and criteria for selecting members for the scientific and decisionmaking work groups, and for making recommendations, independent review, and decisionmaking.

Final EISs

ERP No. F-COE-K36134-CA Murrieta Creek Flood Control and Protection, Implementation, Riverside County, CA.

Summary: EPA expressed objections that the Corps continues to propose Alternative 6, which EPA believes is not economically or environmentally feasible. EPA also noted that the Final EIS continues to be inadequate. EPA is particularly concerned over impacts to wetlands.

ERP No. F-FHW-D40267-WV WV-9 Improvements, from Charles Town Bypass (U.S. 340) to the Virginia Line, Funding and COE Section 404 Permit, Shenandoah River, Jefferson Co., WV and Loudoun Co., VA.

Summary: EPA expressed concern over the level of information provided for a causeway construction, construction-related traffic; and impacts from and to an adjacent quarry.

ERP No. F-FHW-K40233-CA US-7 Expressway Project, Construction between CA-98 to Interstate 8, Improve Access to the new Calexico East Port of Entry, Funding and COE Section 404 Permit, Imperial County, CA.

Summary: EPA is generally satisfied with the information supplemented in the FEIS which disclose potential indirect and cumulative project impacts, and with the steps that will be taken to reduce adverse impacts to water quality.

Dated: January 9, 2001.
B. Katherine Biggs,
Associate Director, NEPA Compliance Division, Office of Federal Activities.

[FR Doc. 01-1117 Filed 1-11-01; 8:45 am]

BILLING CODE 6560-50-U